DEPARTMENT OF TRANSPORTATION

Office of the Secretary of Transportation

Transportation Infrastructure Financing and Innovation Act (TIFIA) Program; Agency Information Collection Activities and Request for Comments

AGENCY: Office of the Secretary of Transportation, DOT.

ACTION: Notice and request for comments.

SUMMARY: The Department of Transportation (DOT) has submitted an information collection request to the Office of Management and Budget (OMB) to renew an existing information collection. The information collection is used to allow entities to apply for TIFIA credit assistance and assists the DOT in evaluating projects and project sponsors for program eligibility and creditworthiness.

DATES: Written comments should be submitted by June 30, 2017.

ADDRESSES: Written comments should be submitted to the attention of the DOT/OST Desk Officer, Office of Information and Regulatory Affairs, Office of Management and Budget, Docket Library, Room 10102, 725 17th Street NW., Washington, DC 20503 or by email at OIRA_submission@omb.eop.gov with the associated OMB Control Number 2105-0569.

FOR FURTHER INFORMATION CONTACT: The TIFIA program manager via email at TIFIACredit@dot.gov.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), DOT published a 60-day notice in the Federal Register on March 24, 2017 (82 FR 15101), and the comment period ended May 23, 2017. DOT received no comments. DOT now requests comments on the following subjects: Comments are invited on: (a) The need for the proposed collection of information for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques.

The following information pertains to this request:

Title: Transportation Infrastructure Financing and Innovation Act program or TIFIA program.

Form: The forms for the letter of interest and application are available for review at http://www.fhwa.dot.gov/ipd/tifia/guidance_applications/tifia_applications.htm.

OMB Control Number: 2105-0569.

Abstract: The TIFIA program provides Federal credit assistance in the form of direct loans, loan guarantees, and standby lines of credit to eligible surface transportation projects. This information collection relates to the collection of information from entities interested in TIFIA credit assistance and assists DOT in evaluating projects and project sponsors for program eligibility and creditworthiness. DOT is required by 23 U.S.C §§ 601-609 to solicit a letter of interest and an application from each interested applicant for TIFIA credit assistance. DOT will use the collected information to evaluate and select recipients for credit assistance. Applicants may be asked to provide additional supporting evidence or to quantify details during the review and negotiation process on a case-by-case basis.

Description of Respondents: State and local governments, transit agencies, freight and commuter railroad companies, special authorities, special districts, and private entities.

Estimated Total Annual Number of Responses: 50 letters of interest and 50 applications.

Estimated Total Annual Burden Hours: 6,000 hours.

The estimated burdens are itemized in the following table:

A. Type of response | B. Number of responses | C. Hours per response | D. Total hours (column B × column C
Letter of Interest | 50 | 20 | 1,000
Application | 50 | 100 | 5,000

Frequency of Collection: One time.

Issued in Washington, DC on May 25, 2017.
Claire Barrett,
Departmental Chief Privacy & Information Governance Officer.

[FR Doc. 2017-11167 Filed 5-30-17; 8:45 am]

BILLING CODE 4910-22-P